DEPARTMENT OF HOMELAND SECURITY

Coast Guard

[Docket No. USCG-2022-0160]

National Merchant Marine Personnel Advisory Committee Meeting; May 2022 Teleconference

AGENCY: U.S. Coast Guard, Department of Homeland Security.

ACTION: Notice of Federal advisory committee teleconference meeting.

SUMMARY: The National Merchant Marine Personnel Advisory Committee (Committee) will meet via teleconference to discuss issues relating to personnel in the United States Merchant Marine including the training, qualifications, certification, documentation, and fitness of mariners.

DATES:

Meeting: The National Merchant Marine Personnel Advisory Committee will meet by teleconference on Tuesday, May 3, 2022, from 10:00 a.m. until 4:30 p.m. (Eastern Daylight Time). The teleconference may adjourn early if the Committee has completed its business.

Comments and supporting documentation: To ensure your comments are received by Committee members before the teleconference, submit your written comments no later than April 19, 2022.

ADDRESSES: To join the teleconference or to request special accommodations, contact the individual listed in the FOR FURTHER INFORMATION CONTACT section no later than 1 p.m. on April 19, 2022, to obtain the needed information. The number of individuals on a teleconference line is limited and will be available on a first-come, first served basis.

Instructions: You are free to submit comments at any time, including orally at the meeting, but if you want Committee members to review your comment before the meeting, please submit your comments no later than April 19, 2022. We are particularly interested in comments on the issues in the “Agenda” section below. We encourage you to submit comments through the Federal eRulemaking portal at https://www.regulations.gov. If your material cannot be submitted using https://www.regulations.gov, email the individual in the FOR FURTHER INFORMATION CONTACT section of this document for alternate instructions. You must include the words “Department of Homeland Security” and the docket number [USCG-2022-0160]. Comments received will be posted without alteration at https://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comment, will be in our online docket at https://www.regulations.gov and can be viewed by following that website's instructions. Additionally, if you go to the online docket and sign-up for email alerts, you will be notified when comments are posted.

FOR FURTHER INFORMATION CONTACT: Mrs. Megan Johns Henry, Alternate Designated Federal Officer of the National Merchant Marine Personnel Advisory Committee, telephone (202) 372-1255, or email megan.c.johns@uscg.mil.

SUPPLEMENTARY INFORMATION: Notice of this meeting is in compliance with the Federal Advisory Committee Act (5 U.S.C. Appendix). The National Merchant Marine Personnel Advisory Committee is authorized by section 601 of the Frank LoBiondo Act of 2018 and is codified in 46 U.S.C. 15103, and makes recommendations to the Secretary of Homeland Security through the Commandant, U.S. Coast Guard on matters relating to personnel in the United States Merchant Marine including the training, qualifications, certification, documentation, and fitness of mariners.

Agenda

The National Merchant Marine Personnel Advisory Committee will meet on Tuesday, May 3, 2022 to review and discuss recommendations, as appropriate on the following topics:

The agenda for the May 3, 2022, meeting is as follows:

(1) Introduction.

(2) Designated Federal Officer Remarks.

(3) Roll call of Committee members and determination of a quorum.

(4) Remarks from U.S. Coast Guard Leadership and Swearing-in of new Committee member.

(5) Acceptance of Meeting 1 Minutes.

(6) Introduction of New Tasks.

(7) Presentation from the Office of Merchant Mariner Credentialing.

(8) Presentation from the National Maritime Center.

(9) Reports on Subcommittees and Discussion of Subcommittee recommendations.

The Committee will review the information presented on each of the following issues and deliberate on recommendations presented by the Subcommittees, approve/formulate recommendations and close any completed tasks. Official action on these recommendations may be taken:

(a) Task Statement 21-1, Review of IMO Model Courses Being Validated by the IMO HTW Subcommittee;

(b) Task Statement 21-2, Communication Between External Stakeholders and the Mariner Credentialing Program;

(c) Task Statement 21-3, Military Education, Training and Assessment for STCW and National Mariner Endorsements;

(d) Task Statement 21-4, STCW Convention and Code Review;

(e) Task Statement 21-5, Review of Merchant Mariner Rating and Officer Endorsement Job Task Analyses;

(f) Task Statement 21-6, Sea Service for Merchant Mariner Credential Endorsements;

(g) Task Statement 21-8, Remote Operators of Maritime Autonomous Surface Ships; and

(h) Task Statement 21-9, Sexual Harassment and Sexual Assault-Prevention and Culture Change in the Merchant Marine.

(10) Public comment period.

(11) Closing remarks.

(12) Adjournment of meeting.

A copy of all meeting documentation will be available at: https://homeport.uscg.mil/missions/federal-advisory-committees/national-merchant-marine-personnel-advisory-committee-(nmerpac) by April 19, 2022. Alternatively, you may contact the individual noted in the FOR FURTHER INFORMATION CONTACT section above.

Public comments or questions will be taken throughout the meeting as the Committee discusses the issues and prior to deliberations and voting. There will also be a public comment period at the end of the meeting. Speakers are requested to limit their comments to 3 minutes. Please note that the public comment period will end following the last call for comments. Contact the individual listed in the FOR FURTHER INFORMATION CONTACT section above, to register as a speaker.

Dated: April 7, 2022.
Jeffrey G. Lantz,
Director of Commercial Regulations and Standards.

[FR Doc. 2022-07828 Filed 4-12-22; 8:45 am]

BILLING CODE 9110-04-P